DEPARTMENT OF THE INTERIOR

Bureau of Land Management

[LLCAD01000 L12200000.AL 0000]

Meeting of the California Desert District Advisory Council

SUMMARY: Notice is hereby given, in accordance with Public Laws 92-463 and 94-579, that the California Desert District Advisory Council (DAC) to the Bureau of Land Management (BLM), U.S. Department of the Interior, will meet in formal session on Saturday, August 17, 2013, from 1 p.m. to 4:30 p.m. at the Riverside Marriott, 3400 Market Street, Riverside, CA 92501. Pursuant to the Federal Lands Recreation Enhancement Act, the Council will meet to make recommendations on the Imperial Sand Dunes Recreation Area fee proposal.

SUPPLEMENTARY INFORMATION: All DAC meetings are open to the public. Council discussion is limited to Bureau of Land Management staff and council members. However, persons who wish to bring recreation fee matters to the attention of the council may file written statements with the council before or after the meeting. A public input session will be provided during the meeting and individuals who wish to address the council will have an opportunity at 2:00 p.m. Comments will be limited to three minutes per person. The council is authorized by the Federal Land Recreation Enhancement Act to make recommendations on BLM recreation fee proposals, which was signed into law by President Bush in December 2004.

Written comments may be filed in advance of the meeting for the California Desert District Advisory Council, c/o Bureau of Land Management, External Affairs, 22835 Calle San Juan de Los Lagos, Moreno Valley, CA 92553. Written comments also are accepted at the time of the meeting and, if copies are provided to the recorder, will be incorporated into the minutes.

FOR FURTHER INFORMATION CONTACT: David Briery, BLM California Desert District External Affairs, (951) 697-5220.

Dated: July 24, 2013.
Timothy Wakefield,
Associate District Manager, California Desert District.

[FR Doc. 2013-18853 Filed 8-2-13; 8:45 am]

BILLING CODE 4310-40-P